DEPARTMENT OF HOMELAND SECURITY

Coast Guard

33 CFR Part 117

[Docket No. USCG-2012-0378]

Drawbridge Operation Regulation; Upper Mississippi River, Hannibal, MO

AGENCY: Coast Guard, DHS.

ACTION: Notice of temporary deviation from regulations.

SUMMARY: The Coast Guard has issued a temporary deviation from the operating schedule that governs the Hannibal Railroad Drawbridge across the Upper Mississippi River, mile 309.9, at Hannibal, Missouri. The deviation is necessary to allow the replacement of eight wire rope lifting cables that operate the lift span. This deviation allows the bridge to remain in the closed position while the lift cables are replaced.

DATES: This deviation is effective from 9 a.m. to 3 p.m. on or about June 5, June 7, June 12 and June 14, 2012.

ADDRESSES: Documents mentioned in this preamble as being available in the docket are part of docket USCG-2012-0378 and are available online by going to http://www.regulations.gov, inserting USCG-2012-0378 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Eric A. Washburn, Bridge Administrator, Western Rivers, Coast Guard telephone 314-269-2378, email Eric.Washburn@uscg.mil. If you have questions on viewing the docket, call Renee V. Wright, Program Manager, Docket Operations, telephone 202-366-9826.

SUPPLEMENTARY INFORMATION: The Norfolk Southern Corporation requested a temporary deviation for the Hannibal Railroad Drawbridge, across the Upper Mississippi River, mile 309.9, at Hannibal, Missouri to remain in the closed-to-navigation position for four 6-hour individual closures while the eight wire rope lifting cables that operate the lift span are replaced. The closure period will be from 9 a.m. to 3 p.m. on or about June 5, June 7, June 12 and June 14, 2012.

Once the wire rope lifting cables are removed, the lift span will not be able to open, even for emergencies, until the replacement wire rope lifting cables are installed.

The Hannibal Railroad Drawbridge currently operates in accordance with 33 CFR 117.5, which states the general requirement that drawbridges shall open promptly and fully for the passage of vessels when a request to open is given in accordance with the subpart.

There are no alternate routes for vessels transiting this section of the Upper Mississippi River. The Hannibal Railroad Drawbridge, in the closed-to-navigation position, provides a vertical clearance of 21.1 feet above normal pool. Navigation on the waterway consists primarily of commercial tows and recreational watercraft. This temporary deviation has been coordinated with the waterway users.

In accordance with 33 CFR 117.35(e), the drawbridge must return to its regular operating schedule immediately at the end of the designated time period. This deviation from the operating regulations is authorized under 33 CFR 117.35.

Dated: May 2, 2012.
Eric A. Washburn,
Bridge Administrator, Western Rivers.

[FR Doc. 2012-11538 Filed 5-14-12; 8:45 am]

BILLING CODE 9110-04-P